DEPARTMENT OF DEFENSE

Office of the Secretary of Defense

[DOD-2007-OS-0007]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on March 5, 2007 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on January 24, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 29, 2007.
C.R. Choate,
Alternate OSD Federal Register Liaison Officer, Department of Defense.

DHA 17 DoD

System name:

Defense Nutrition Management Information System (NMIS)

System location:

Primary location: Defense Medical Logistics Standard Support (DMLSS) Program Office, Six Skyline Place, 5109 Leesburg Pike, Suite 908, Falls Church, VA 22041-3215.

Secondary locations: Service Medical Treatment Facility Medical Centers and Hospitals: Uniformed Services Treatment Facilities.

For a complete listing of all facility addresses, write to the system manager.

Categories of individuals covered by the system:

Members of the Armed Forces, their family members, and other individuals entitled to DoD health care that receive nutrition care intervention at one or more of DoD's Medical Treatment Facilities (MTFs) or at MTF Clinics for a specific diagnosis. Nutrition intervention can be received as either an inpatient or outpatient.

Categories of records in the system:

Records consist of the patient name, sponsor Social Security Number, patient Social Security Number, patient Family Member Prefix (FMP), patient age/date of birth, diet type, and medical treatment information including laboratory results, medications and nutrition outcomes associated with the diagnoses that are related to nutrition care.

Authority for maintenance of the system:

Public Law 105-85 (DoD FY 1998 authorization Act) Section 108 and 765; DoD 1338.10, Manual for the Department of Defense Food Service Program; and E.O. 9397 (SSN).

Purpose(s):

To facilitate the Medical Nutrition Therapy (MNT) Health Care Program and to control health care costs. The Medical Nutrition Therapy will enable the provider to track a patient's progress in relation to the nutrition care outcomes associated with the diagnosis. The program provides an effective and efficient method of preventing inpatient episodes, lowering morbidity, and progressing towards optimal health.

Routine uses of records maintained in the system, including categories of users and the purposes of such uses:

Other than those disclosures generally permitted under the 5 U.S.C. 552a(b) of the Privacy Act, those records of information contained therein are not disclosed outside the DoD as a routine use pursuant to 5 U.S.C. 552a(b)(3) of the Privacy Act.

The DoD ‘Blanket Routine Uses’ set forth at the beginning of the OSD's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the used and disclosures of such information beyond those found in the Privacy Act of 1974 or mentioned in this system of records notice.

Policies and practices for storing, retrieving, accessing, retaining, and disposing of records in the system:

Storage:

Records in file folders and on electronic storage media.

Retrievability:

Records may be retrieved by patient name, sponsor's Social Security Number, and family member prefix.

Safeguards:

Records are maintained in a secure, limited access, or monitored area. Physical entry by unauthorized persons is restricted by the use of locks, guards, or administrative procedures. Access to personal information is limited to those who require the records to perform their official duties. All personnel whose official duties require access to the information are trained in the proper safeguarding and use of the information.

Retention and disposal:

Disposition pending (treat records as permanent until the National Archives and Records Administration have approved the retention and disposition schedule).

System manager(s) and address:

Military Health Systems/Program Executive Officer, Defense Medical Logistics Standard Support (DMLSS) Program Office, Six Skyline Place, 5109 Leesburg Pike, Suite 908, Falls Church, VA 22041-3215.

Notification procedure:

Individuals seeking to determine whether information about themselves is contained in this system of records can obtain the information by writing to TRICARE Management Activity, Privacy Act Office, Skyline 5, 511 Leesburg Pike, Falls Church, VA 22041-3201.

Requests for a list of participating DoD's Medical Treatment Facilities can be obtained by addressing written inquires to TRICARE Management Activity, Privacy Office, Skyline 5, 5111 Leesburg Pike, Falls Church, VA 22041-3201.

Requests should contain individual's full name, individual's Family Member Prefix, and individual's sponsor's SSN.

Record access procedures:

Individuals seeking access to records should address written inquiries to TRICARE Management Activity, Privacy Office, Skyline 5, 5111 Leesburg Pike, Falls Church, VA 22041-3201.

Requests for a list of participating DoD's Medical Treatment Facilities can be obtained by addressing written inquires to TRICARE Management Activity, Privacy Office, Skyline 5, 5111 Leesburg Pike, Falls Church, VA 22041-3201.

Requests should contain individual's full name, individual's Family Member Prefix, and individual's sponsor's SSN.

Contesting record procedures:

The OSD rules for accessing records, for contesting contents and appealing initial agency determinations are published in OSD Administrative Instruction 81; 32 CFR part 311; or may be obtained from the system manager.

Record source categories:

Individual to whom the record pertains; reports from physicians and other medical department personnel; reports and information from other sources including Composite Health Care System (CHCS).

Exemptions claimed for the system:

None.

[FR Doc. E7-1724 Filed 2-1-07; 8:45 am]

BILLING CODE 5001-06-P